FEDERAL MARITIME COMMISSION

Ocean Transportation Intermediary License Revocations

The Federal Maritime Commission hereby gives notice that the following Ocean Transportation Intermediary licenses have been revoked pursuant to section 19 of the Shipping Act of 1984 (46 U.S.C. chapter 409) and the regulations of the Commission pertaining to the licensing of Ocean Transportation Intermediaries, 46 CFR Part 515, effective on the corresponding date shown below:

License Number: 017096N.

Name: Aero Costa International, Inc.

Address: 22010 S. Wilmington Ave., Ste. 208, Carson, CA 90745.

Date Revoked: April 6, 2007.

Reason: Failed to maintain a valid bond.

License Number: 019499N.

Name: Anmi Air & Sea Transportation, Inc.

Address: 8066 Northwest 66th Street, Miami, FL 33166.

Date Revoked: April 13, 2007.

Reason: Failed to maintain a valid bond.

License Number: 019900N.

Name: Atlantic Freight Services Inc.

Address: PMB 519 RD 19, Guaynabo, PR 00966-2700.

Date Revoked: April 13, 2007.

Reason: Failed to maintain a valid bond.

License Number: 016783N.

Name: C & A Shipping, Inc.

Address: 100 Menlo Park, Ste. 326, Edison, NJ 08827.

Date Revoked: April 12, 2007.

Reason: Failed to maintain a valid bond.

License Number: 018861N.

Name: Central American Shipping Agency Inc.

Address: 55 West Main Street, Freehold, NJ 07728.

Date Revoked: April 7, 2007.

Reason: Failed to maintain a valid bond.

License Number: 003706NF.

Name: Chesapeake Bay Shipping and Warehousing, Inc.

Address: 3914 Vero Road, Baltimore, MD 21227.

Date Revoked: February 12, 2007.

Reason: Failed to maintain valid bonds.

License Number: 019025N.

Name: Ever-OK International Forwarding Co., Ltd.

Address: 430 South Garfield Ave., Ste. 403, Alhambra, CA 91801.

Date Revoked: April 15, 2007.

Reason: Failed to maintain a valid bond.

License Number: 017269N.

Name: Fastmark Corporation.

Address: 7206 NW 84th Avenue, Miami, FL 33166.

Date Revoked: April 11, 2007.

Reason: Failed to maintain a valid bond.

License Number: 010854NF.

Name: Logistics Service (U.S.A.) Co., Inc.

Address: 55 Second Street, 2nd Floor, San Francisco, CA 94105.

Date Revoked: April 9, 2007.

Reason: Surrendered license voluntarily.

License Number: 017159N.

Name: Nolton Freight Logistics, Inc.

Address: 520 Carson Plaza Ct., Ste., 212, Carson, CA 90746.

Date Revoked: April 12, 2007.

Reason: Failed to maintain a valid bond.

License Number: 014569N.

Name: RCS Freight International, Inc.

Address: 20410 Gramercy Place, Torrance, CA 90501.

Date Revoked: April 12, 2007.

Reason: Failed to maintain a valid bond.

Sandra L. Kusumoto,
Director, Bureau of Certification and Licensing.

[FR Doc. E7-7910 Filed 4-24-07; 8:45 am]

BILLING CODE 6730-01-P